DEPARTMENT OF TRANSPORTATION

Office of the Secretary

Applications of Skylink Airways, Inc. for Certificate Authority

AGENCY: Department of Transportation.

ACTION: Notice of Order to Show Cause (Order 2005-1-1); Dockets OST-2004-17171 and OST-2004-17172.

SUMMARY: The Department of Transportation is directing all interested persons to show cause why it should not (1) issue an order finding SkyLink Airways, Inc., fit, willing, and able, and awarding it a certificate of public convenience and necessity to engage in foreign scheduled air transportation of persons, property and mail to certain countries, and (2) defer action on SkyLink's application for interstate authority and the remainder of its foreign authority.

DATES: Persons wishing to file objections should do so no later than January 22, 2005.

ADDRESSES: Objections and answers to objections should be filed in Dockets OST-2004-17171 and OST-2004-17172 and addressed to U.S. Department of Transportation, Docket Operations, (M-30, Room PL-401), 400 Seventh Street, SW., Washington, DC 20590, and should be served upon the parties listed in Attachment A to the order.

FOR FURTHER INFORMATION CONTACT: Vanessa R. Wilkins, Air Carrier Fitness Division (X-56, Room 6401), U.S. Department of Transportation, 400 Seventh Street, SW., Washington, DC 20590, (202) 366-9721.

Dated: January 5, 2005.
Karan K. Bhatia,
Assistant Secretary for Aviation and International Affairs.

[FR Doc. 05-476 Filed 1-10-05; 8:45 am]

BILLING CODE 4910-62-P